DEPARTMENT OF HOUSING AND URBAN DEVELOPMENT

[Docket No. FR-5750-N-41]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Connie Lotfi, Air Force Real Property Agency, 143 Billy Mitchell Blvd., San Antonio, TX 78226, (210)- 925-3047; COE: Ms. Brenda John-Turner, Army Corps of Engineers, Real Estate, HQUSACE/CEMP-CR, 441 G Street NW., Washington, DC 20314; (202) 761-5222; ENERGY: Mr. David Steinau, Department of Energy, Office of Property Management, 1000 Independence Ave SW., Washington, DC 20585 (202) 287-1503; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL. 33021; (443) 223-4639; NASA: Mr. Frank T. Bellinger, Facilities Engineering Division, National Aeronautics & Space Administration, Code JX, Washington, DC 20546, (202)-358-1124; NAVY: Mr. Steve Matteo, Department of the Navy, Asset Management Division, Naval Facilities Engineering Command, Washington Navy Yard, 1330 Patterson Ave. SW., Suite 1000, Washington, DC 20374; (202)685-9426 (These are not toll-free numbers).

Dated: October 2, 2014.
Brian P. Fitzmaurice,
Director, Division of Community Assistance, Office of Special Needs Assistance Programs.

TITLE V, FEDERAL SURPLUS PROPERTY PROGRAM FEDERAL REGISTER REPORT FOR 10/10/2014

Suitable/Available Properties

Building

Missouri

Masters Campground

16435 E Stockton Lake Dr.

Stockton MO 65785

Landholding Agency: COE

Property Number: 31201430012

Status: Underutilized

Comments: 41+yrs. old; 416 sq. ft.; shower; deteriorated; restricted access; contact COE for more info.

Crabtree Cove Park #28835

16435 E Stockton Lake Dr.

Stockton MO 65785

Landholding Agency: COE

Property Number: 31201430013

Status: Underutilized

Comments: 41+yrs. old; 84 sq. ft.; wood structure; toilet; deterioration; contact COE for more info.

West Virginia

Naval Information Operations

Center

133 Hedrick Drive

Sugar Grove WV 26815

Landholding Agency: GSA

Property Number: 54201430015

Status: Excess

GSA Number: 4-N-WV-0560

Directions: Land holding agency—Navy; Disposal Agency GSA

Comments: 118 Buildings; 445,134 sq. ft.; Navy base; until 09/15 military checkpoint; wetlands; contact GSA for more info.

Unsuitable Properties

Building

California

Building 8600, Flight Line

Complex

Marine Corps Air Station Miramar

San Diego CA

Landholding Agency: Navy

Property Number: 77201440002

Status: Excess

Comments: public access denied & no alternative method to gain access w/out compromising national security.

Reasons: Secured Area

Building 9403, MACS-1

Administration Bldg.

Marine Corps Air Station Miramar

San Diego CA

Landholding Agency: Navy

Property Number: 77201440003

Status: Excess

Comments: public access denied & no alternative method to gain access w/out compromising national security.

Reasons: Secured Area

Building 6688

null

Marine Corps Air Station Miramar

San Diego CA

Landholding Agency: Navy

Property Number: 77201440005

Status: Excess

Comments: public access denied & no alternative method to gain access w/out compromising national security.

Reasons: Secured Area

Florida

Building 946

946 Tech Road

Patrick AFB FL 32925

Landholding Agency: Air Force

Property Number: 18201430076

Status: Unutilized

Comments: public access denied & no alternative method to gain access w/out compromising national security.

Reasons: Secured Area

Hawaii

Building 245, Marine Corps

Base Hawaii Kaneohe Bay

Intersection of Mokapu Rd. & E Street

Kaneohe HI 96863

Landholding Agency: Navy

Property Number: 77201440001

Status: Excess

Comments: public access denied & no alternative method to gain access w/out compromising national security.

Reasons: Secured Area

Building 313, Marine Corps

Base Hawaii Kaneohe Bay

Bldg. 313 is Located Along B Street

Kaneohe HI 96863

Landholding Agency: Navy

Property Number: 77201440004

Status: Excess

Comments: public access denied & no alternative method to gain access w/out compromising national security.

Reasons: Secured Area

New Mexico

11 Buildings; Los Alamos

National Lab

Los Alamos

Los Alamos NM 87545

Landholding Agency: Energy

Property Number: 41201430014

Status: Excess

Directions: 46-0420; 46-0058; 16-0380; 15-0198; 15-0189; 15-0185; 15-0184; 48-0129; 54-1004; 39-0010; 39-0002

Comments: public access denied & no alternative method to gain access w/out compromising national security.

Reasons: Secured Area

Los Alamos National Lab

Los Alamos

Los Alamos NM 87545

Landholding Agency: Energy

Property Number: 41201440001

Status: Excess

Directions: 46-0720; 46-0058; 16-0380; 15-0198; 15-0189; 15-0185; 15-0184; 48-0129; 54-1004; 39-0010; 39-0002

Comments: public access denied & no alternative method to gain access w/out compromising national security.

Reasons: Secured Area

Pennsylvania

Tract 01-106, Old Headquarters

Building

727 Nelson Road

Farmington PA 15437

Landholding Agency: Interior

Property Number: 61201430003

Status: Excess

Comments: property has documented and extensive conditions; lead-based; paint; mold; asbestos; flooding; a client threat to personal safety.

Reasons: Contamination

Virginia

Visual Imaging Studio,

Building 1145

3 East Bush Street

Hampton VA 23681-0001

Landholding Agency: NASA

Property Number: 71201440001

Status: Excess

Comments: public access denied & no alternative method to gain access w/out compromising national security

Reasons: Secured Area.

Temporary Housing Facility,

Building 1130T2

7 East Taylor Street

Hampton VA 23681-0001

Landholding Agency: NASA

Property Number: 71201440002

Status: Excess

Comments: public access denied & no alternative method to gain access w/out compromising national security

Reasons: Secured Area.

Child Development Center,

Building 1231 & 1231B

8 & 8B Lindbergh Way

Hampton VA 23681-0001

Landholding Agency: NASA

Property Number: 71201440003

Status: Excess

Comments: public access denied & no alternative method to gain access w/out compromising national security.

Reasons: Secured Area.

[FR Doc. 2014-24076 Filed 10-9-14; 8:45 am]

BILLING CODE 4210-67-P